DEPARTMENT OF LABOR

Office of the Secretary

Combating Exploitive Child Labor Through Education in Sierra Leone and Liberia; Modification

AGENCY: Bureau of International Labor Affairs, Department of Labor.

ACTION: Modification.

SUMMARY: In notice document 05-10621 beginning on page 30801 in the issue of Friday, May 27, 2005, make the following modifications:

On page 30801, in the first column, first sentence of the “Summary”, the language “The U.S. Department of Labor, Bureau of International Labor Affairs, will award up to U.S. $5 million through one or more cooperative agreements to an organization or organizations* * *”, should be changed to read. “The U.S. Department of Labor, Bureau of International Labor Affairs, will award up to U.S. $6 million through one or more cooperative agreements to an organization or organizations* * *”

On page 30805, in the third column, first sentence of the second paragraph of Section II “Award Information”, the language, “Up to U.S. $5 million will be awarded under this solicitation”, should be changed to read, “Up to U.S. $6 million will be awarded under this solicitation”.

Dated: June 21, 2005.
Lisa Harvey,
Grant Officer.

[FR Doc. 05-12528 Filed 6-28-05; 8:45 am]

BILLING CODE 4510-28-M